DEPARTMENT OF EDUCATION

Office of Postsecondary Education; Overview Information; American Indian Tribally Controlled Colleges and Universities (TCCU), and Alaska Native-Serving and Native Hawaiian-Serving Institutions (ANNH) Programs; Notice Inviting Applications for New Awards for Fiscal Year (FY 2009)

Catalog of Federal Domestic Assistance (CFDA) Numbers: 84.031T, 84.031N and 84.031W.

DATES: Applications Available: April 3, 2009.

Deadline for Transmittal of Applications: May 4, 2009.

Deadline for Intergovernmental Review: July 2, 2009.

Full Text of Announcement

I. Funding Opportunity Description

Purpose of Program: The TCCU and the ANNH programs authorized by Title III, Part A of the Higher Education Act of 1965 (HEA), as amended by the Higher Education Opportunity Act of 2008 (HEOA), Public Law 110-315, provide grants to eligible institutions of higher education (IHEs) to help them become self sufficient and expand their capacity to serve low-income students by providing funds to improve and strengthen their academic quality, institutional management and fiscal stability. Section 371 of the HEA makes funds available in FY 2009 to certain minority-serving institutions eligible for Title III Part A programs including an additional $30 million to the TCCU program, of which $7 million is available for new awards; and $15 million to the ANNH program, of which $10 million is available for new awards. Awards under these programs are hereafter referred to as “TCCU—Section 371 and ANNH—Section 371.”

Program Authority: 20 U.S.C. 1057-1059d and Public Law 110-84.

Applicable Regulations: (a) The Education Department General Administrative Regulations (EDGAR) in 34 CFR parts 74, 75, 77, 79, 80, 81, 82, 84, 85, 86, 97, 98, and 99. (b) The regulations for this program in 34 CFR Part 607.

II. Award Information

Type of Award: Discretionary grants. TCCU one-year construction grants, ANNH five-year individual development grants, and ANNH one-year renovation grants will be awarded in FY 2009. Planning grants will not be awarded in FY 2009.

Estimated Available Funds: $7,172,000 for the TCCU program and $14,345,000 for the ANNH program for FY 2009.

Average Size of Awards: See following chart.

Estimated Average Size of Awards: See following chart.

Estimated Number of Awards: See following chart.

Program name and type of award | Maximum award amount | Estimated number of awards | Estimated average award amount
Tribally Controlled Colleges and Universities Program (84.031T)
1-year TCCU-Section 371 Construction Grants | $1,000,000 | 7 | $1,000,000
Alaska Native and Native Hawaiian Program (84.031N and 84.031W)
5-year Individual Development Grants | 700,000 | 7 | 600,000
1-year ANNH-Section 371 Renovation Grants | 2,000,000 | 10 | 1,000,000

Note: The Department is not bound by any estimates in this notice.

Project Period: Up to 60 months for development and cooperative arrangement, and 12 months for one-year TCCU-Section 371 construction grants and ANNH-Section 371 renovation grants.

III. Eligibility Information

1. Eligible Applicants: An IHE that qualifies as an eligible institution under the TCCU and the ANNH programs may apply for grants under this notice. These programs are authorized by Title III, Part A, of the HEA. To qualify as an eligible institution under any Title III, Part A program, an institution must, among other requirements—

(1) Be accredited or preaccredited by a nationally recognized accrediting agency or association that the Secretary has determined to be a reliable authority as to the quality of education or training offered;

(2) Be legally authorized by the State in which it is located to be a junior college or to provide an educational program for which it awards a bachelor's degree;

(3) Be designated as an “eligible institution” by demonstrating that it: (A) Has an enrollment of needy students as described in 34 CFR 607.3; and (B) has low average educational and general expenditures per full-time equivalent (FTE) undergraduate student as described in 34 CFR 607.4.

Relationship between the Title III, Part A programs and the Hispanic-Serving Institutions (HSI) program.

Note 1: A grantee under the Developing Hispanic-Serving Institutions (HSI) program, which is authorized under Title V of the HEA, may not receive a grant under any HEA, Title III, Part A program. The Title III, Part A programs include the Strengthening Institutions Program (SIP), TCCU and ANNH. Further, a current HSI program grantee may not give up its HSI grant in order to receive a grant under any Title III, Part A program.

Note 2: An eligible HSI that does not fall within the limitation described in Note 1 (i.e., is not a current grantee under the HSI program) may apply for a FY 2009 grant under all Title III, Part A programs for which it is eligible, as well as receive consideration for a grant under the HSI program. However, a successful applicant may receive only one grant.

Note 3: An eligible IHE that submits more than one application may only be awarded one individual development grant or one cooperative arrangement development grant in a fiscal year. Furthermore, we will not award a second cooperative arrangement development grant to an otherwise eligible IHE for the same award year as the IHE's existing cooperative arrangement development grant award.

Note 4: The Department will make five-year awards for individual development grants and five-year awards for cooperative arrangement development grants in rank order from separate funding slates according to the average score received from a panel of three readers. The Department will make 1-year construction grants under the TCCU-Section 371 program, and 1-year ANNH-Section 371 renovation grants in rank order from separate funding slates according to the average score received from a panel of three readers.

2. Cost Sharing or Matching: This program does not require cost sharing or matching unless the grantee uses a portion of its grant for establishing or improving an endowment fund. If a grantee uses a portion of its grant for endowment fund purposes, it must match those grant funds with non-Federal funds (20 U.S.C. 1059c(c)(3)(B)).

IV. Application and Submission Information

1. Address to Request Application Package: You can obtain an application via the Internet using the following address: http://www.grants.gov. If you do not have access to the Internet, please contact Darlene B. Collins, U.S. Department of Education, 1990 K Street, NW., 6th Floor, Washington, DC 20006-8513. Telephone: (202) 502-7576 or by e-mail: darlene.collins@ed.gov.

If you use a telecommunications device for the deaf (TDD), call the Federal Relay Service (FRS) at 1-800-877-8339.

Individuals with disabilities may obtain a copy of the application package in an alternative format (e.g., braille, large print, audiotape, or computer diskette) by contacting the program contact person listed in this section.

2. Content and Form of Application Submission: Requirements concerning the content of an application, together with the forms you must submit, are in the application package for these programs.

Page Limits: We have established mandatory page limits for the applications to be submitted under this notice. You must limit your application to the equivalent of no more than 50 pages for an individual development grant, 70 pages for a cooperative arrangement development grant and 35 pages for a construction or renovation grant under the TCCU or the ANNH programs, using the following standards:

• A “page” is 8.5″ x 11″, on one side only, with 1 inch margins at the top, bottom, and both sides. Page numbers and an identifier may be outside the 1″ margin.

• Double space (no more than three lines per vertical inch) all text in the application narrative, except titles, headings, footnotes, quotations, references, captions and all text in charts, tables, figures, and graphs. Charts, tables, figures, and graphs in the application narrative may be single spaced and will count toward the page limit.

• Use a font that is either 12 point or larger, and no smaller than 10 pitch (characters per inch).

• Use one of the following fonts: Times New Roman, Courier, Courier New or Arial. Applications submitted in any other font (including Times Roman and Arial Narrow) will not be accepted.

The page limit does not apply to Part I, the cover sheet; Part II, the budget section, including the narrative budget justification; Part IV, the assurances and certifications; or the one-page abstract, the resumes, the bibliography, or the letters of support. However, the page limit does apply to all of the application narrative section (Part III), application for Federal Assistance face sheet (SF 424); the supplemental information for SF 424 form required by the Department of Education; Part II, the Budget Information Summary Form (ED Form 524); and Part IV, the Assurances and Certifications. The page limit also does not apply to a Table of Contents and the Program Abstract. If you include any attachments or appendices, these items will be counted as part of the Program Narrative (Part III of the application) for purposes of the page limit requirement. You must include your complete response to the selection criteria in the program narrative.

We will reject your application if you apply these standards and exceed the page limit.

• You apply other standards and exceed the equivalent of the page limit.

3. Submission Dates and Times:

Applications Available: April 3, 2009.

Deadline for Transmittal of Applications: May 4, 2009.

Applications for grants under this competition must be submitted electronically using the Grants.gov Apply site (Grants.gov). For information (including dates and times) about how to submit your application electronically, or in paper format by mail or hand delivery if you qualify for an exception to the electronic submission requirement, please refer to Section IV.6. Other Submission Requirements in this notice:

We do not consider an application that does not comply with the deadline requirements.

Individuals with disabilities who need an accommodation or auxiliary aid in connection with the application process should contact the person listed under FOR FURTHER INFORMATION CONTACT in Section VII in this notice. If the Department provides an accommodation or auxiliary aid to an individual with a disability in connection with the application process, the individual's application remains subject to all other requirements and limitations in this notice.

Deadline for Intergovernmental Review: July 2, 2009.

4. Intergovernmental Review: This program is subject to Executive Order 12372 and the regulations in 34 CFR part 79. Information about Intergovernmental Review of Federal Programs under Executive Order 12372 is in the application package for these programs.

5. Funding Restrictions: We reference the regulations outlining funding restrictions in the Applicable Regulations section of this notice.

Applicability of Executive Order 13202. Applicants that apply for construction funds under the Title III, Part A programs, must comply with Executive Order 13202 signed by former President George W. Bush on February 17, 2001, and amended on April 6, 2001. This Executive Order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive Order does not prohibit contractors or subcontractors from voluntarily entering into these agreements. Projects funded under these programs that include construction activity will be provided a copy of this Executive Order and will be asked to certify that they will adhere to it.

6. Other Submission Requirements: Applications for grants under the TCCU and ANNH programs must be submitted electronically unless you qualify for an exception to this requirement in accordance with the instructions in this section.

a. Electronic Submission of Applications.

Applications for grants under the TCCU and ANNH programs (CFDA numbers 84.031T, 84.031N and 84.031W), must be submitted electronically using the Governmentwide Grants.gov Apply site at http://www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the TCCU and ANNH programs at http://www.Grants.gov. You must search for the downloadable application package for this program competition by the CFDA number. Do not include the CFDA number's alpha suffix in your search (e.g., search for 84.031, not 84.031N).

Please note the following:

• When you enter the Grants.gov site, you will find information about submitting an application electronically through the site, as well as the hours of operation.

• Applications received by Grants.gov are date and time stamped. Your application must be fully uploaded and submitted, and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S number used with this registration. Please note that the registration process may take five or more business days to complete, and you must have completed all registration steps to allow you to submit successfully an application via Grants.gov. In addition, you will need to update your CCR registration on an annual basis. This may take three or more business days to complete.

• You will not receive additional point value because you submit your application in electronic format, nor will we penalize you if you qualify for an exception to the electronic submission requirement, as described elsewhere in this section, and submit your application in paper format.

• You must submit all documents electronically, including all information typically provided on the following forms: Application for Federal Assistance (SF 424), the Department of Education Supplemental Information for SF 424; Budget Information—Non-Construction Programs (ED 524), and all necessary assurances and certifications.

• You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., please contact the person listed under FOR FURTHER INFORMATION CONTACT in Section VII in this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time; or, if the technical problem you experienced is unrelated to the Grants.gov system.

Exception to Electronic Submission Requirement: You qualify for an exception to the electronic submission requirement and may submit your application in paper format if you are unable to submit an application through the Grants.gov system because—

• You do not have access to the Internet; or

• You do not have the capacity to upload large documents to the Grants.gov system; and

• No later than two weeks before the application deadline date (14 calendar days; or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Darlene B. Collins, U.S. Department of Education, 1990 K Street, NW., 6th floor, Washington, DC 20006-8513. FAX: (202) 502-7861.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.031T, 84.031N or 84.031W), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications By Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.031T, 84.031N or 84.031W), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for these programs are in 34 CFR 607.22(a)-(g). Applicants must address each of the following selection criteria (separately for each proposed activity). The total weight of the selection criteria is 100 points; the maximum score for each criterion is noted in parentheses.

(a) Quality of The Applicant's Comprehensive Development Plan (Maximum 25 Points).

(b) Quality of Activity Objectives (Maximum 15 Points).

(c) Quality of Implementation Strategy (Maximum 20 Points).

(d) Quality of Key Personnel (Maximum 7 Points).

(e) Quality of Project Management Plan (Maximum 10 Points).

(f) Quality of Evaluation Plan (Total 15 Points).

(g) Budget (Total 8 Points).

2. Review and Selection Process: For five-year individual development grants and one-year construction and renovation grants, awards will be made in rank order according to the average score received from a panel of three readers.

Tie-breaker for Development Grants. In tie-breaking situations for development grants described in 34 CFR 607.23(b), the regulations for the Title III Part A programs require that we award one additional point to an application from an IHE that has an endowment fund or which the current market value, per full time equivalent (FTE) enrolled student, is less than the comparable average current market value of the endowment funds, per FTE enrolled student at comparable institutions that offer similar instruction. We award one additional point to an application from an IHE that had expenditures for library materials per FTE enrolled student that are less than the average expenditures per FTE enrolled student at comparable institutions that offer similar instruction. We also add one additional point to an application from an IHE that proposes to carry out one or more of the following activities—

(i) Faculty development;

(ii) Funds and administrative management;

(iii) Development and improvement of academic programs;

(iv) Acquisition of equipment for use in strengthening management and academic programs;

(v) Joint use of facilities; and

(vi) Student services.

For the purpose of these funding considerations, we use 2006-2007 data.

If a tie remains after applying the tie-breaker mechanism above, priority will be given in the case of applicants for: (a) Individual development grants to applicants that have the lowest endowment values per FTE student; and (b) cooperative arrangement development grants to applicants in accordance with Section 394(b) of the HEA, if the Secretary determines that the cooperative arrangement is geographically and economically sound or will benefit the applicant institution.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section in this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary in 34 CFR 75.118 and 34 CFR 607.31. The Secretary may also require more frequent performance reports under 34 CFR 75.720. For specific requirements on reporting, please go to http://www.ed.gov/fund/grant/apply/appforms/appforms.html.

4. Performance Measures: The Secretary has established the following key performance measures for assessing the effectiveness of the Title III, Part A programs:

a. The number of full-time degree-seeking undergraduates enrolling at IHEs. Note that this is a long-term measure, which will be used to periodically gauge performance, beginning in FY 2009;

b. The percentage of full-time undergraduate students who were in their first year of postsecondary enrollment in the previous year and are enrolled in the current year at the same institution;

c. The percentage of students enrolled at 4-year IHEs graduating within 6 years of enrollment; and

d. The percentage of students enrolled at 2-year IHEs graduating within 3 years of enrollment.

VII. Agency Contacts

FOR FURTHER INFORMATION CONTACT: Darlene B. Collins, U.S. Department of Education, 1990 K Street, NW., 6th Floor, Washington, DC 20006-8513. Telephone: (202) 502-7576 or by e-mail: darlene.collins@ed.gov.

If you use a TDD, call the FRS, toll free, at 1-800-877-8339.

VIII. Other Information

Accessible Format: Individuals with disabilities can obtain this document and a copy of the application package in an accessible format (e.g., braille, large print, audiotape, or computer diskette) on request to the program contact person listed in Section VII of this notice.

Electronic Access to This Document: You can view this document, as well as all other documents of this Department published in the Federal Register, in text or Adobe Portable Document Format (PDF), on the Internet at the following site: http://www.ed.gov/news/fedregister.

To use PDF, you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions of the Assistant Secretary for Postsecondary Education.

Dated: March 31, 2009.
Daniel T. Madzelan,
Director, Forecasting and Policy Analysis.

[FR Doc. E9-7532 Filed 4-2-09; 8:45 am]

BILLING CODE 4000-01-P